DEPARTMENT OF COMMERCE

International Trade Administration

United States Investment Advisory Council: Meeting of the United States Investment Advisory Council

AGENCY: International Trade Administration, U.S. Department of Commerce.

ACTION: Notice of an open meeting.

SUMMARY: The United States Investment Advisory Council (Council) will hold a meeting on Monday, October 31, 2016. The Council was chartered on April 6, 2016, to advise the Secretary of Commerce on matters relating to the promotion and retention of foreign direct investment in the United States. At the meeting, members will deliberate and vote on a set of recommendations to Secretary Pritzker on the facilitation of foreign direct investment into the United States, including data management and provision of information on workforce and investment opportunities across U.S. regions, facilitation of infrastructure investment, and mechanisms to increase investment competitiveness, in addition to other topics. The agenda may change to accommodate Council business. The final agenda will be posted on the Department of Commerce Web site for the Council at http://trade.gov/IAC, at least one week in advance of the meeting.

DATES: Monday, October 31, 2016, 1:30 p.m.-4:00 p.m. EDT. The deadline for members of the public to register, including requests to make comments during the meeting and for auxiliary aids, or to submit written comments for dissemination prior to the meeting, is 5 p.m. EDT on October 24, 2016.

ADDRESSES: The meeting will be held at the Department of Commerce, 1401 Constitution Avenue NW., Washington, DC Requests to register (including to speak or for auxiliary aids) and any written comments should be submitted to: United States Investment Advisory Council, U.S. Department of Commerce, Room 4043, 1401 Constitution Avenue NW., Washington, DC 20230, IAC@trade.gov. Members of the public are encouraged to submit registration requests and written comments via email to ensure timely receipt.

FOR FURTHER INFORMATION CONTACT: Li Zhou, United States Investment Advisory Council, Room 4043, 1401 Constitution Avenue NW., Washington, DC 20230, telephone: 202-482-4501, email: IAC@trade.gov.

SUPPLEMENTARY INFORMATION:

Background: The Council advises the Secretary of Commerce on matters relating to the promotion and retention of foreign direct investment in the United States.

Public Participation: The meeting will be open to the public and will be accessible to people with disabilities. All guests are required to register in advance by the deadline identified under the DATES caption. Requests for auxiliary aids must be submitted by the registration deadline. Last minute requests will be accepted, but may be impossible to fill. There will be fifteen (15) minutes allotted for oral comments from members of the public joining the meeting. To accommodate as many speakers as possible, the time for public comments may be limited to three (3) minutes per person. Individuals wishing to reserve speaking time during the meeting must submit a request at the time of registration, as well as the name and address of the proposed speaker. If the number of registrants requesting to make statements is greater than can be reasonably accommodated during the meeting, the International Trade Administration may conduct a lottery to determine the speakers. Speakers are requested to submit a written copy of their prepared remarks by 5:00 p.m. EDT on October 24, 2016, for inclusion in the meeting records and for circulation to the members of the Council.

In addition, any member of the public may submit pertinent written comments concerning the Council's affairs at any time before or after the meeting. Comments may be submitted to Li Zhou at the contact information indicated above. To be considered during the meeting, comments must be received no later than 5:00 p.m. EDT on October 24, 2016, to ensure transmission to the Council members prior to the meeting. Comments received after that date and time will be distributed to the members but may not be considered during the meeting. Statements will be posted on the United States Investment Advisory Council Web site (http://trade.gov/IAC) without change, including any business or personal information provided such as names, addresses, email addresses, or telephone numbers. All statements received, including attachments and other supporting materials, are part of the public record and subject to public disclosure. You should submit only information that you wish to make publicly available. Copies of Council meeting minutes will be available within 90 days of the meeting.

Dated: October 11, 2016.
Li Zhou,
Executive Secretary, United States Investment Advisory Council.

[FR Doc. 2016-24903 Filed 10-13-16; 8:45 am]

BILLING CODE 3510-DR-P